FEDERAL COMMUNICATIONS COMMISSION

Notice of Public Information Collection(s) Being Submitted for Review to the Office of Management and Budget, Comments Requested

December 17, 2007.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 22, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, or an email to PRA@fcc.gov. If you would like to obtain or view a copy of this information collection, you may do so by visiting OMB's Web site: http://www.reginfo.gov/public/do/PRAMain.

FOR FURTHER INFORMATION CONTACT: For additional information or copies of the information collection(s), contact Judith B. Herman at 202-418-0214 or via the Internet at Judith-B.Herman@fcc.gov.

SUPPLEMENTARY INFORMATION:

OMB Control Number: 3060-0221.

Title: Section 90.155(b) and (d), Time in Which Station Must Be Placed in Operation.

Form No.: N/A.

Type of Review: Revision of a currently approved collection.

Respondents: Business or other for-profit and state, local or tribal government.

Number of Respondents: 1,768 respondents; 1,768 responses.

Estimated Time Per Response: 1 hour.

Frequency of Response: On occasion reporting requirement.

Obligation to Respond: Required to obtain or retain benefits.

Total Annual Burden: 1,768 hours.

Total Annual Cost: N/A.

Privacy Act Impact Assessment: N/A.

Nature and Extent of Confidentiality: There is no need for confidentiality.

Needs and Uses: The Commission will submit this information collection to the OMB as a revision during this comment period to obtain the full three-year clearance from them. There is a decrease in the number of respondents/responses and burden hours.

Section 90.155(b) requires that a period longer than 12 months may be granted to local government entities to place their stations in operation on a case-by-case basis upon a showing of need. This rule provides flexibility to state and local governments. An application for extension of time to commence service may be made on FCC Form 601 (OMB Control No. 3060-0798). Extensions of time must be filed prior to the expiration of the construction period. Extensions will be granted only if the licensee shows that the failure to commence service is due to causes beyond its control.

For the revisions to this submission to the OMB, the Commission is requesting OMB approval for the following:

The Commission adopted and released a Report and Order in FCC 95-41, PR Docket No. 93-61 which established construction deadlines for Location and Monitoring Service (LMS) licensees in the MTA-licensed multilateration LMS services. The Commission is adding Section 90.155(d) to this information collection.

On July 8, 2004, the Commission adopted a Report and Order in FCC 04-166, WT Docket Nos. 02-381, 01-14, and 03-202 that amended Section 90.155(d) to provide holders of multilateration location service authorizations with five- and ten-year benchmarks to place in operation their base stations that utilize multilateration technology to provide multilateration location service to one-third of the Economic Area's (EAs) population within five years of initial license grant, and two-thirds of the population within ten years. At the five- and ten-year benchmarks, licensees are required to file a map with FCC Form 601 showing compliance with the coverage requirements pursuant to section 1.946 of the Commission's rules.

On January 31, 2007, via an Order on Reconsideration and Memorandum Opinion and Order, in DA 07-479, the FCC granted two to three additional years to meet the five-year construction requirements for certain multilateration Location and Monitoring Service Economic Area licenses, and extended the ten-year requirement for such licenses for two years.

Note: The cost and hour burdens for section 90.155(g) and (i) are accounted for under OMB Control No. 3060-0798 and are therefore not part of this information collection.

These requirements will be used by Commission personnel to evaluate whether or not certain licensees are providing substantial service as a means of complying with their construction requirements, or have demonstrated that an extended period of time for construction is warranted.

Federal Communications Commission.
Marlene H. Dortch,
Secretary.

[FR Doc. E7-24793 Filed 12-20-07; 8:45 am]

BILLING CODE 6712-01-P